DEPARTMENT OF ENERGY

Federal Energy Regulatory Commission

[Docket No. RP01-446-001]

Williston Basin Interstate Pipeline Company; Notice of Compliance Filing

July 31, 2001.

Take notice that on July 20, 2001, Williston Basin Interstate Pipeline Company (Williston Basin) tendered for filing its response to the Commission's Order issued July 3, 2001 in Docket No. RP01-446-000.

On July 3, 2001, the Commission issued its Order in the above referenced docket. That Order accepted Williston Basin's proposed tariff sheets to be effective July 4, 2001, subject to Williston Basin making a compliance filing to address the conditions of the Order. The instant filing is being made in compliance with the provisions of that Order.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19544 Filed 8-2-01; 8:45 am]

BILLING CODE 6717-01-P